DEPARTMENT OF DEFENSE

Office of the Secretary

Defense Science Board

AGENCY: Department of Defense.

ACTION: Notice of advisory committee meeting cancellation.

SUMMARY: The Department of Defense published a closed meeting notice of Defense Science Board on April 6, 2009 (74 FR 15461). The Defense Science Board task force on Joint Professional Military Education meeting scheduled for April 28-29, 2009; at SAIC, 4001 N. Fairfax Drive, Arlington, VA 22203, was cancelled.

FOR FURTHER INFORMATION CONTACT: CDR Kenneth Spurlock, Navy Military Assistant, Defense Science Board, 3140 Defense Pentagon, Room 3B888A, Washington, DC 20301-3140, via e-mail at Kenneth.spurlock@osd.mil, or via phone at (703) 571-0083.

April 27, 2009.
Morgan E. Frazier,
Alternate OSD Federal Register Liaison Officer, Department of Defense.

[FR Doc. E9-9903 Filed 4-29-09; 8:45 am]

BILLING CODE 5001-06-P